SECURITIES AND EXCHANGE COMMISSION

[Investment Company Act Release No. 32921]

Notice of Applications for Deregistration Under Section 8(f) of the Investment Company Act of 1940

November 27, 2017.

The following is a notice of applications for deregistration under section 8(f) of the Investment Company Act of 1940 for the month of November 2017. A copy of each application may be obtained via the Commission's Web site by searching for the file number, or for an applicant using the Company name box, at http://www.sec.gov/search/search.htm or by calling (202) 551-8090. An order granting each application will be issued unless the SEC orders a hearing. Interested persons may request a hearing on any application by writing to the SEC's Secretary at the address below and serving the relevant applicant with a copy of the request, personally or by mail. Hearing requests should be received by the SEC by 5:30 p.m. on December 20, 2017, and should be accompanied by proof of service on applicants, in the form of an affidavit or, for lawyers, a certificate of service. Pursuant to Rule 0-5 under the Act, hearing requests should state the nature of the writer's interest, any facts bearing upon the desirability of a hearing on the matter, the reason for the request, and the issues contested. Persons who wish to be notified of a hearing may request notification by writing to the Commission's Secretary.

ADDRESSES: The Commission: Secretary, U.S. Securities and Exchange Commission, 100 F Street NE., Washington, DC 20549-1090.

FOR FURTHER INFORMATION CONTACT: Jill Ehrlich, Senior Counsel, at (202) 551-6819 or Chief Counsel's Office at (202) 551-6821; SEC, Division of Investment Management, Chief Counsel's Office, 100 F Street NE., Washington, DC 20549-8010.

NB Crossroads Private Markets Fund IV (TE)—Custody Client LLC [File No. 811-23169]

Summary: Applicant, a closed-end investment company, seeks an order declaring that it has ceased to be an investment company. Applicant has never made a public offering of its securities and does not propose to make a public offering or engage in business of any kind.

Filing Date: The application was filed on October 10, 2017 and amended on October 20, 2017.

Applicant's Address: 325 North Saint Paul Street, 49th Floor, Dallas, Texas 75201.

NB Crossroads Private Markets Fund IV (TI)—Custody Client LLC [File No. 811-23115]

Summary: Applicant, a closed-end investment company, seeks an order declaring that it has ceased to be an investment company. Applicant has never made a public offering of its securities and does not propose to make a public offering or engage in business of any kind.

Filing Date: The application was filed on October 10, 2017 and amended on October 20, 2017.

Applicant's Address: 325 North Saint Paul Street, 49th Floor, Dallas, Texas 75201.

Cushing MLP Infrastructure Fund II [File No. 811-23093]

Summary: Applicant, a closed-end investment company, seeks an order declaring that it has ceased to be an investment company. On October 13, 2017 and October 25, 2017, applicant made liquidating distributions to its shareholders, based on net asset value. Expenses of $800 incurred in connection with the liquidation were paid by the applicant's investment adviser.

Filing Date: The application was filed on October 27, 2017.

Applicant's Address: 8117 Preston Road, Suite 440, Dallas, Texas 75225.

Deutsche Global High Income Fund, Inc. [File No. 811-06671]

Summary: Applicant, a closed-end investment company, seeks an order declaring that it has ceased to be an investment company. On September 18, 2017, applicant made liquidating distributions to its shareholders, based on net asset value. Expenses of $8,516.98 incurred in connection with the liquidation were paid by the applicant.

Filing Date: The application was filed on November 7, 2017.

Applicant's Address: 345 Park Avenue, New York, New York 10154.

Pacholder High Yield Fund, Inc. [File No. 811-05639]

Summary: Applicant, a closed-end investment company, seeks an order declaring that it has ceased to be an investment company. On July 11, 2017 and August 29, 2017, applicant made liquidating distributions to its shareholders, based on net asset value. Expenses of $54,878 incurred in connection with the liquidation were paid by the applicant. Applicant has retained approximately $225,000 in cash as well as other assets in approximately the amount of $10,000 for the purpose of paying liabilities and expenses incurred by the applicant as it concludes operations.

Filing Date: The application was filed on November 14, 2017.

Applicant's Address: 270 Park Avenue, New York, New York 10017.

For the Commission, by the Division of Investment Management, pursuant to delegated authority.
Eduardo A. Aleman,
Assistant Secretary.

[FR Doc. 2017-25848 Filed 11-30-17; 8:45 am]

BILLING CODE P